NATIONAL SCIENCE FOUNDATION

National Science Board; Sunshine Act Meetings; Impromptu Notice of Change (Addition of Agenda Item)

The National Science Board's (NSB) Audit & Oversight (A&O) Committee, pursuant to NSF regulations (45 CFR part 614), the NSF Act, as amended (42 U.S.C. 1862n-5), and the Government in the Sunshine Act (5 U.S.C. 552b), hereby gives notice of an Impromptu Change in regard to the addition of an agenda item that will be discussed during the closed session of the A&O Committee meeting scheduled for February 16, 2011, at 9:15 a.m., as follows:

ORIGINAL DATE AND TIME: No change.

SUBJECT MATTER (agenda item added): 5 minute update on Cyber issues at NSF.

STATUS: No change.

LOCATION: No change.

UPDATES AND POINT OF CONTACT: Please refer to the National Science Board Web site http://www.nsf.gov/nsb for additional information and schedule updates (time, place, subject matter or status of meeting) may be found at http://www.nsf.gov/nsb/notices/. Point of contact for this meeting is: Jennie Moehlmann, National Science Foundation, 4201 Wilson Blvd., Arlington, VA 22230. Telephone: (703) 292-7000.

Daniel A. Lauretano,
Counsel to the National Science Board.

[FR Doc. 2011-3585 Filed 2-14-11; 11:15 am]

BILLING CODE 7555-01-P